DEPARTMENT OF ENERGY

Federal Energy Regulatory Commission

[Project No. 2322-069]

Brookfield White-Pine Hydro LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2322-069.

c. Date filed: January 31, 2020.

d. Applicant: Brookfield White-Pine Hydro, LLC (Brookfield).

e. Name of Project: Shawmut Hydroelectric Project.

f. Location: The existing project is located on the Kennebec River in Kennebec and Somerset Counties, Maine. The project does not affect federal lands.

g. Filed Pursuant to: Federal Power Act 16 U.S.C. 791 (a)-825(r).

h. Applicant Contact: Randy Dorman, 150 Main Street, Lewiston, Maine 04240; (207) 755-5600 or email at Randy.Dorman@BrookfieldRenewable.com.

i. FERC Contact: Matt Cutlip, telephone (503) 552-2762, and email matt.cutlip@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Shawmut Project consists of the following constructed facilities: (1) a 24-foot-high, 1,480-foot-long concrete gravity dam consisting of: (i) A 380-foot-long overflow section with hinged flashboards, (ii) a 730-foot-long overflow section with an inflatable bladder, (iii) 25-foot-wide sluice section; (iv) a non-overflow section; and (v) a headworks containing 11 headgates that regulate flow into a forebay; (2) a 1,310-acre impoundment extending about 12 miles upstream; (3) two powerhouses adjacent to the forebay, separated by a 10-foot-high by 7-foot-wide Tainter gate and a 6-foot-high by 6-foot-wide deep gate; (4) eight turbine-generating units; (5) a 300-foot-long tailrace; (6) 250-foot-long generator leads connecting the powerhouses with a substation; and (7) appurtenant facilities.

Brookfield operates the project in a run-of-river mode and implements specific operating procedure to facilitate upstream and downstream fish passage at the project. Upstream passage for American eel is provided by a dedicated eel passage facility located adjacent to one of the powerhouses. There are no constructed upstream anadromous fishways at the project. Currently anadromous fish are captured and transported upstream of the Shawmut Project via a fish lift and transport system at the Lockwood Dam Hydroelectric Project No. 2574, located about 6 miles downstream. Downstream fish passage for American eel and anadromous fish at the Shawmut Project is provided via a combination of routing flows through the project's spillways, turbines, and downstream fish passage facilities (e.g., deep gate and Tainter gate between the powerhouses).

Brookfield proposes to construct and operate a forebay guidance boom to direct downstream migrating fish to a surface bypass route and minimize passage through the turbines.

m. A copy of the application can viewed on the Commission's website at http://www.ferc.gov using the eLibrary link. Enter the docket number excluding the last three digits in the docket number field to access the document. For assistance, contact FERC Online Support.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, COMMENTS, REPLY COMMENTS, RECOMMENDATIONS, PRELIMINARY TERMS AND CONDITIONS, or PRELIMINARY FISHWAY PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following revised Hydro Licensing Schedule. Revisions to the schedule may be made as appropriate.

Milestone | Target date
Filing of recommendations, preliminary terms and conditions, and preliminary fishway prescriptions | August 2020.
Commission issues Draft EA or EIS | April 2021.
Comments on Draft EA or EIS | May 2021.
Modified Terms and Conditions | July 2021.
Commission Issues Final EA or EIS | October 2021.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: July 1, 2020.
Kimberly D. Bose,
Secretary.

[FR Doc. 2020-14665 Filed 7-7-20; 8:45 am]

BILLING CODE 6717-01-P